DEPARTMENT OF DEFENSE

Department of the Army

Surplus Properties; Notice

Correction

In notice document 07-2262 beginning on page 26080 in the issue of Tuesday, May 8, 2007, make the following corrections:

1. On page 26081, in the first column, in the fifth line, “Attn: BAIM-BD” should read “Attn: DAIM-BD ”.

2. On the same page, in the same column, in the eighth line, “a specified property” should read “a specific property”.

3. On the same page, in the same column, under the heading SUPPLEMENTARY INFORMATION, in the seventh line from the bottom of the paragraph, “at the e-mail address” should read “at the mail or e-mail address”.

4. On the same page, in the same column, in the same paragraph, in the fourth line from the bottom of the paragraph, “these of any” should read “these or any”.

5. On the same page, in the same column, under the heading Arkansas, in the second line, “Highway 79 NW” should read “Highway 79 NE”.

6. On the same page, in the second column, under the heading Authority, in the second line from the bottom of the paragraph, “Pub. L. 103-106” should read “Pub. L. 103-160”.

[FR Doc. C7-2262 Filed 5-10-07; 8:45 am]

BILLING CODE 1505-01-D

DEPARTMENT OF DEFENSE

Department of the Army

Notice of Availability of the Record of Decision for the Fort Bliss, Texas and New Mexico, Mission Master Plan Final Supplemental Programmatic Environmental Impact Statement

Correction

In notice document 07-2263 beginning on page 26081 in the issue of Tuesday, May 8, 2007, make the following corrections:

1. On page 26081, in the second column, under the heading SUMMARY, in the eighth line, “Fort bliss” should read “Fort Bliss”.

2. On the same page, in the third column, under the heading SUPPLEMENTARY INFORMATION, in the second paragraph, in the fifth line, “infrastructure, airspace” should read “infrastructure, training area infrastructure, airspace”.

3. On the same page, in the same column, in the sixth line from the bottom of the page, “bliss” should read “Bliss”.

4. On page 26082, in the first column, in the first full paragraph, in the eighth line, “551 Redd Branch Road” should read “551 Redd Road”.

[FR Doc. C7-2263 Filed 5-10-07; 8:45 am]

BILLING CODE 1505-01-D

DEPARTMENT OF HEALTH AND HUMAN SERVICES

Centers for Medicare & Medicaid Services

42 CFR Part 484

[CMS-1541-P]

RIN 0938-AO32

Medicare Program; Home Health Prospective Payment System Refinement and Rate Update for Calendar Year 2008

Correction

In proposed rule document 07-2167 beginning on page 25356 in the issue of Friday, May 4, 2007, make the following correction:

On page 25356, in the first column, under the heading DATES, in the last line, “July 3, 2007” should read “June 26, 2007”.

[FR Doc. C7-2167 Filed 5-10-07; 8:45 am]

BILLING CODE 1505-01-D